DEPARTMENT OF ENERGY

Energy Information Administration

Agency Information Collection Activities: Submission for OMB Review; Comment Request

AGENCY: Energy Information Administration (EIA), Department of Energy (DOE).

ACTION: Agency Information Collection Activities: Submission for OMB Review; Comment Request.

SUMMARY: The EIA has submitted the Energy Information Administration's Natural Gas Data Collection Program Package collections to the Office of Management and Budget (OMB) for revision and a three-year extension under section 3507(h)(1) of the Paperwork Reduction Act of 1995 (Pub. L. 104-13) (44 U.S.C. 3501 et seq).

DATES: Comments must be filed by October 6, 2011. If you anticipate that you will be submitting comments but find it difficult to do so within that period, you should contact the OMB Desk Officer for DOE listed below as soon as possible.

ADDRESSES: Send comments to OMB Desk Officer for DOE, Office of Information and Regulatory Affairs, Office of Management and Budget. To ensure receipt of the comments by the due date, submission by Fax at 202-395-7285 or e-mail to Chad_S_Whiteman@omb.eop.gov is recommended. The mailing address is 725 17th Street, NW., Washington, DC 20503. The OMB DOE Desk Officer may be telephoned at (202) 395-4718. (A copy of your comments should also be provided to EIA's Statistics and Methods Group at the address below.)

FOR FURTHER INFORMATION CONTACT: Requests for additional information should be directed to Amy Sweeney. To ensure receipt of the comments by the due date, submission by FAX (202-586-4420) or e-mail (amy.sweeney@eia.doe.gov) is also recommended. The mailing address is Ms. Amy Sweeney, Energy Information Administration, Department of Energy, 1000 Independence Avenue, SW., EI-24, Washington, DC 20585-0670. Ms. Sweeney may be contacted by telephone at (202) 586-2627.

SUPPLEMENTARY INFORMATION: This section contains the following information about the energy information collections submitted to OMB for review: (1) The collection numbers and title; (2) the sponsor (i.e., the Department of Energy component); (3) the current OMB docket number (if applicable); (4) the type of request (i.e, new, revision, extension, or reinstatement); (5) response obligation (i.e., mandatory, voluntary, or required to obtain or retain benefits); (6) a description of the need for and proposed use of the information; (7) a categorical description of the likely respondents; (8) estimated number of respondents annually; (9) an estimate of the total annual reporting burden in hours (i.e., the estimated number of likely respondents times the proposed frequency of response per year times the average hours per response); and (10) an estimate of the total annual reporting and recordkeeping cost burden (in thousands of dollars).

1. EIA-176, EIA-191, EIA-757, EIA-857, EIA-895, EIA-910, and EIA-912.

2. U.S. Energy Information Administration.

3. OMB Number 1905-0175.

4. Revision and three-year extension.

5. All forms are mandatory except EIA-895, which is voluntary.

6. The purpose of the Natural Gas Data Collection Program Package is to collect basic and detailed data to meet the EIA's mandates and energy data users' needs. Adequate evaluation of the natural gas industry requires collection and processing of data related to natural gas production, processing, transmission, distribution, storage, marketing, and consumption. The data that the EIA collects are used to address significant energy industry issues. In line with its mandated responsibility to collect data that adequately describe the natural gas marketplace, the EIA evaluates the lifecycle of natural gas from its reserves and production to consumption and prices throughout the upstream and downstream markets. The data collected by the Natural Gas Data Collection Program Package surveys are among those that are required to address the status and future of the role of natural gas in the energy mix and overall economy. Among the data series resulting from the information collected in these surveys is the rate, location, and source of natural gas produced and entering the market, the quantities being stored and the location of the storage, and the quantities being delivered to various consuming sectors. Prices are also reported on at various points in the production and distribution stream.

7. Business or other for-profit.

8. 3218 Respondents.

9. Annual total of 50,131 hours, and respondent frequency is as follows: Forms EIA-176 and EIA-757 Schedule B are collected annually; forms EIA-191, EIA-857, and EIA-910 are collected monthly; EIA-757 Schedule A is collected once every three years; and Form EIA-912 is collected weekly.

10. Annual total of $0.

Please refer to the supporting statement as well as the proposed forms and instructions for more information about the purpose, who must report, when to report, where to submit, the elements to be reported, detailed instructions, provisions for confidentiality, and uses (including possible nonstatistical uses) of the information. For instructions on obtaining materials, see the FOR FURTHER INFORMATION CONTACT section.

Statutory Authority: Section 13(b) of the Federal Energy Administration Act of 1974, P.L. 93-275, codified at 15 U.S.C. 772(b).

Issued in Washington, DC, August 30, 2011.
Stephanie Brown,
Director, Office of Survey Development and Statistical Integration, Energy Information Administration.

[FR Doc. 2011-22682 Filed 9-2-11; 8:45 am]

BILLING CODE 6450-01-P